DEPARTMENT OF COMMERCE

International Trade Administration

[C-570-048]

Certain Carbon and Alloy Steel Cut-to-Length Plate From the People's Republic of China: Final Results of Countervailing Duty Expedited Review

AGENCY: Enforcement and Compliance, International Trade Administration, Department of Commerce.

SUMMARY: The Department of Commerce (Commerce) has completed its expedited review of the countervailing duty (CVD) order on certain carbon and alloy steel cut-to-length plate (CTL plate) from the People's Republic of China (China) and finds that Jiangsu Tiangong Tools Company Limited (TG Tools) received countervailable subsidies during period of review (POR) January 1, 2015, through December 31, 2015.

DATES: Applicable July 19, 2018.

FOR FURTHER INFORMATION CONTACT: Ryan Mullen, AD/CVD Operations, Office V, Enforcement and Compliance, International Trade Administration, U.S. Department of Commerce, 1401 Constitution Avenue NW, Washington, DC 20230; telephone: (202) 482-5260.

SUPPLEMENTARY INFORMATION:

Background

Commerce published the Preliminary Results of this expedited review on March 21, 2018.¹ A summary of the events that occurred since we published the Preliminary Results, as well as a full discussion of the issues raised by parties for the final results, may be found in the Issues and Decision Memorandum ² issued concurrently with, and hereby adopted by, this notice. The Issues and Decision Memorandum is a public document and is on file electronically via Enforcement and Compliance's Antidumping and Countervailing Duty Centralized Electronic Service System (ACCESS). ACCESS is available to registered users at http://access.trade.gov, and is available to all parties in the Central Records Unit, Room B8024 of the main Department of Commerce building. In addition, a complete version of the Issues and Decision Memorandum can be accessed directly at http://enforcement.trade.gov/frn/. The signed Issues and Decision Memorandum and the electronic version are identical in content.

¹ See Certain Carbon and Alloy Steel Cut-to-Length Plate from the People's Republic of China: Preliminary Results of Countervailing Duty Expedited Review, 83 FR 12337 (March 21, 2018) (Preliminary Results).

² See Memorandum, “Issues and Decision Memorandum for the Final Results of Expedited Review of the Countervailing Duty Order on Certain Carbon and Alloy Steel Cut-to-Length Plate from the People's Republic of China,” dated concurrently with, and hereby adopted by, this notice (Issues and Decision Memorandum).

Scope of the Order

The product covered by this order is CTL plate. A full description of the scope of the order is contained in the Issues and Decision Memorandum.³

³ Id.

Methodology

Commerce conducted this CVD expedited review in accordance with 19 CFR 351.214(k). For a full description of the methodology underlying our conclusions, see the Issues and Decision Memorandum. The subsidy programs under review, and the issues raised in the case and rebuttal briefs submitted by the parties, are discussed in the Issues and Decision Memorandum. A list of the issues that parties raised, and to which we responded in the Issues and Decision Memorandum, is attached as an Appendix to this notice.

Based on our review and analysis of the comments received from parties, we made certain changes to TG Tools' subsidy rate calculations since the Preliminary Results. For a discussion of these changes, see the Issues and Decision Memorandum and the Final Calculation Memorandum.⁴

⁴ Id; see also Memorandum, “Final Results Calculations for TG Tools” (June 13, 2018).

Final Results of the Expedited Review

As a result of this expedited review, we determine the countervailable subsidy rate to be:

Company | Subsidy rate
Jiangsu Tiangong Tools Company Limited, Tiangong Aihe Company Limited, Jiangsu Tiangong Group Company Limited, Jiangsu Tiangong Mould Steel R&D Center Company Limited | 26.90 percent

Cash Deposit Instructions

Pursuant to section 19 CFR 351.214(k)(3)(iii), the final results of this expedited review will not be the basis for the assessment of countervailing duties. Upon the issuance of these final results, Commerce will instruct Customs and Border Protection (CBP) to collect cash deposits of estimated countervailing duties for the companies subject to this expedited review, at the rates shown above, on shipments of subject merchandise entered, or withdrawn from warehouse, for consumption on or after the date of publication of the final results of this expedited review. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

This determination is issued and published in accordance with 19 CFR 351.214(k).

Dated: July 13, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Subsidies Valuation

V. Use of Facts Otherwise Available and Adverse Inferences

VI. Analysis of Programs

VII. Analysis of Comments

Comment 1: TG Tools' Ministerial Error Allegation

Comment 2: AFA for Land Use for LTAR

Comment 3: Cross-Ownership Standard for TG Tools

Comment 4: Electricity for LTAR Calculation

Comment 5: Ocean Freight Benchmark

Comment 6: VAT in Benchmarks

Comment 7: Policy Loan Calculations

Comment 8: Import Tariff and VAT Exemptions Calculation

VIII. Recommendation

[FR Doc. 2018-15436 Filed 7-18-18; 8:45 am]

BILLING CODE 3510-DS-P